POSTAL REGULATORY COMMISSION

[Docket No. CP2015-61; Order No. 4870]

New Postal Products

AGENCY: Postal Regulatory Commission.

ACTION: Notice.

SUMMARY: The Commission is revising the comment due date.

DATES: Comments are due: November 5, 2018.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

In Order No. 2480, the Commission approved the Priority Mail Express & Priority Mail Contract 18 negotiated service agreement (Existing Agreement).¹ On October 29, 2018, the Postal Service filed notice that it has agreed to the Amendment to the Existing Agreement.² On October 30, 2018, the Commission issued a notice reopening this docket to consider the Amendment, appointing a Public Representative, and providing interested persons with an opportunity to comment.³

¹ See Docket Nos. MC2015-49 and CP2015-61, Order Adding Priority Mail Express & Priority Mail Contract 18 to the Competitive Product List, May 12, 2015 (Order No. 2480).

² USPS Notice of Amendment to Priority Mail Express & Priority Mail Contract 18, Filed Under Seal, October 29, 2018 (Notice). The amendment is an attachment to the Notice (Amendment).

³ Notice Initiating Docket(s) for Recent Postal Service Negotiated Service Agreement Filings, October 30, 2018 (Notice Initiating Dockets).

The Commission set the deadline for comments as November 6, 2018. Notice Initiating Dockets at 2. However, the Existing Agreement expires November 8, 2018,⁴ and the Amendment extending the agreement, if approved, would not take effect until two days after the Commission completes its review. Notice, Attachment A at 1. Under the current schedule, the soonest the Commission could issue a decision on the Amendment is November 7, 2018, which would cause the Existing Agreement to expire before the Amendment could take effect.

⁴ USPS Notice of Extension of Priority Mail Express & Priority Mail Contract 18, July 27, 2018, at 1.

To permit the Commission time to review the comments and issue an order on the Amendment at least two days before the Existing Agreement expires, the deadline for comments is revised to November 5, 2018.

It is ordered:

1. The deadline to submit comments is revised to November 5, 2018.

2. The Secretary shall arrange for publication of this order in the Federal Register.

By the Commission.
Stacy L. Ruble,
Secretary.

[FR Doc. 2018-24392 Filed 11-7-18; 8:45 am]

BILLING CODE 7710-FW-P